DEPARTMENT OF THE INTERIOR

Fish and Wildlife Service

[FWS-R9-IA-2011-N207; 96300-1671-0000-P5]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless a Federal permit is issued that allows such activities. The ESA law requires that we invite public comment before issuing these permits.

DATES: We must receive comments or requests for documents on or before November 4, 2011.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an e-mail or address not listed under ADDRESSES. If you provide an e-mail address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), requires that we invite public comment before final action on these permit applications.

III. Permit Applications

A. Endangered Species

Applicant: Erie Zoo, Erie, PA; PRT-200682

The applicant requests renewal and amendment of their captive-bred wildlife registration under 50 CFR 17.21(g) for the following families and species to enhance their propagation or survival. This notification covers activities to be conducted by the applicant over a 5-year period.

Families:

Felidae (does not include jaguar, ocelot, margay or generic tigers),

Hominidae,

Hylobatidae,

Lemuridae.

Species:

Parma wallaby (Macropus parma),

Pied tamarin (Saguinus bicolor),

Cottontop tamarin (Saguinus oedipus),

Francois langur (Trachypithecus francoisi),

Lion-tailed macaque (Macaca silenus),

Diana monkey (Cercopithecus diana),

African wild dog (Lycaon pictus),

White-naped crane (Grus vipio),

Red-crowned crane (Grus japonensis),

Cuban parrot (Amazona leucocephala),

Golden parakeet (Guarouba guarouba),

Bali starling (Leucopsar rothschildi),

Galapagos tortoise (Chelonoidis nigra),

Radiated tortoise (Astrochelys radiata),

Indian python (Python molurus molurus).

Applicant: Yerkes Regional Primate Research Center, Atlanta, GA; PRT-837068

The applicant requests renewal and amendment of a permit to take captive held white-collared mangabeys (Cercocebus torquatus) through limited invasive sampling, including anesthetizing, collecting blood, skin, and bone marrow tissue samples, and MRI scanning, usually, but not always, during routine veterinary examinations for the purpose of scientific research. This notification covers activities to be conducted by the applicant over a 5-year period.

Applicant: Albuquerque Biological Park, Albuquerque, NM; PRT-671993

The applicant requests renewal of their Captive-bred Wildlife registration under 50 CFR 17.21(g) for the following families and species to enhance their propagation or survival. This notification covers activities to be conducted by the applicant over a 5-year period.

Families:

Bovidae,

Callithricidae,

Camelidae,

Cebidae,

Cercopithecidae (includes Colubus),

Elephantidae,

Equidae,

Felidae (does not include jaguar, margay, ocelot or generic tiger),

Hominidae,

Hylobatidae,

Lemuridae,

Macropodidae,

Rhinocerotidae,

Cathartidae,

Psittacidae (does not include thick-billed parrot),

Sturnidae (does not include Aplonis pelzelni).

Species:

Komodo island monitor (Varanus komodoensis).

Applicant: Lincoln Park Zoo, Chicago, IL; PRT-679052

The applicant requests renewal of their captive-bred wildlife registration under 50 CFR 17.21(g) for the following families and species to enhance their propagation or survival. This notification covers activities to be conducted by the application over a 5-year period.

Families:

Bovidae,

Callithricidae,

Camelidae,

Canidae,

Cebidae,

Cercopithecidae,

Cervidae,

Equidae,

Felidae (does not include jaguar, margay, ocelot, or generic tiger),

Hominidae,

Lemuridae,

Lorisidae,

Macropodidae,

Muridae,

Rhinocerotidae,

Tapiridae,

Ursidae,

Bucerotidae,

Cathartidae,

Ciconiidae (does not include wood stork),

Columbidae,

Gruidae,

Psittacidae (does not include thick-billed parrot),

Sturnidae (does not include Aplonis pelzelni),

Threskiornithidae,

Boidae (does not include Mona or Puerto Rico Boas),

Iguanidae,

Pelomedusidae,

Testudinidae,

Varanidae,

Viperidae (includes Crotalus unicolor but not Crotalus willardi),

Crocodylidae (does not include American crocodile).

Species:

Brush-tailed rat-kangaroo (Bettongia penicillata),

White-cheeked gibbon (Hylobates leucogenys),

Central American river turtle (Dermatemys mawii).

Applicant: Alexandria Zoological Park, Alexandria, LA; PRT-185788

The applicant requests renewal of their captive-bred wildlife registration under 50 CFR 17.21(g) for the following families and species to enhance their propagation or survival. This notification covers activities to be conducted by the applicant over a 5-year period.

Families:

Callithriciae,

Canidae,

Cercopithecidae,

Felidae (does not include jaguar, margay, ocelot, or generic tiger),

Hylobatidae,

Tapiridae,

Gruidae,

Crocodylidae.

Species:

Ring-tailed lemur (Lemur catta),

Black and white ruffed lemur (Varecia variegata),

Parma wallaby (Macropus parma),

Somali wild ass (Equus africanus somalicus),

Babirusa (Babyrousa babyrussa),

Anoa (Bubalus depressicornis),

Andean condor (Vultur gryphus),

Golden parakeet (Guarouba guarouba),

Radiated tortoise (Astrochelys radiata),

Galapagos tortoise (Chelonodis nigra),

Yellow-spot river turtle (Podocemnis unifilis),

Tartaruga (Podocemnis expansa),

Grand Cayman blue iguana (Cyclura lewisi).

Applicant: Rolling Hills Wildlife Adventure, Salina, KS; PRT-766088

The applicant requests renewal of their captive-bred wildlife registration under 50 CFR 17.21(g) for the families Lemuridae and Callithricidae and the species cheetah (Acinonyx jubatus), snow leopard (Uncia uncia), and mandrill (Mandrillus sphinx), in order to enhance their propagation or survival. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Kurt Wille, Meeker, CO; PRT-51599A

Applicant: Carlos Fernandez, Miami, FL; PRT-52937A

Brenda Tapia,
Program Analyst/Data Administrator, Branch of Permits, Division of Management Authority.

[FR Doc. 2011-25747 Filed 10-4-11; 8:45 am]

BILLING CODE 4310-55-P